FEDERAL COMMUNICATIONS COMMISSION

47 CFR Part 73

[DA 09-2234; MB Docket No. 09-187; RM-11576]

Radio Broadcasting Services, Buffalo and Centerville, TX

AGENCY: Federal Communications Commission.

ACTION: Proposed rule.

SUMMARY: The Audio Division seeks comment on a petition filed by Katherine Pyeatt, the permittee of Station KKLB(FM), Channel 267A, Madisonville, Texas, proposing the substitution FM Channel 278A for vacant Channel 299A at Buffalo, Texas, and the substitution of Channel 267A for vacant Channel 278A at Centerville, Texas. The reference coordinates for Channel 278A at Buffalo are 31-21-09 NL and 95-59-47 WL. The reference coordinates for Channel 267A at Centerville are 31-14-17 NL and 96-05-34 WL.

DATES: Comments must be filed on or before December 7, 2009, and reply comments on or before December 22, 2009.

ADDRESSES: Federal Communications Commission, 445 12th Street, SW, Washington, DC 20554. In addition to filing comments with the FCC interested parties should serve the petitioner, as follows: Katherine Pyeatt, 2215 Cedar Springs Rd., #1605, Dallas, Texas 75201.

FOR FURTHER INFORMATION CONTACT: Andrew J. Rhodes, Media Bureau, (202) 418-2180.

SUPPLEMENTARY INFORMATION: This is a summary of the Commission's Notice of Proposed Rule Making, MB Docket No. 09-187, adopted October 14, 2009, and released October 16, 2009. The full text of this Commission document is available for inspection and copying during normal business hours in the FCC Reference Information Center (Room CY-A257), 445 12th Street, SW., Washington, DC 20554.

The complete text of this decision may also be purchased from the Commission's copy contractor, Best Copy and Printing, Inc., 445 12th Street, SW, Room CY-B402, Washington, DC 20554, 1- 800-378-3160 or via the company's website, http://www.bcpiweb.com.

This document does not contain proposed information collection requirements subject to the Paperwork Reduction Act of 1995, Public Law 104-13. In addition, therefore, it does not contain any proposed information collection burden ”for small business concerns with fewer than 25 employees,” pursuant to the Small Business Paperwork Relief Act of 2002, Public Law 107-198, see 44 U.S.C. 3506(c)(4).

The proposed channel changes are part of a hybrid application and rulemaking proceeding. In the application (File No. BMPH-20090831ADM), Pyeatt proposes the substitution of Channel 299A for Channel 267A at Madisonville, Texas, and the modification of the construction permit for Station KKLB(FM) to specify operation on Channel 299A.

Currently, Channel 278A is not listed in the FM Table of Allotments under Centerville, Texas, but is a vacant FM allotment at that community. Channel 278A was allotted at Centerville in MM Docket No. 99-257. See 64 FR 59124, published November 2, 1999. A construction permit for Channel 278A at Centerville was issued to Station KKEV(FM). See File No. BNPH-20060310AA1. As a result of the issuance of the construction permit, Channel 278A at Centerville was removed from the FM Table of Allotments in MB Docket 05-210. See 71 FR 76208, published December 20, 2006. However, the Station KKEV(FM) construction permit was cancelled on May 24, 2009, making the Channel 278A allotment vacant. As stated above, we are proposing to substitute Channel 267A for vacant Channel 278A at Centerville to accommodate the Station KKLB(FM) hybrid application.

Provisions of the Regulatory Flexibility Act of 1980 do not apply to this proceeding.

Members of the public should note that from the time a Notice of Proposed rule Making is issued until the matter is no longer subject to Commission consideration or court review, all ex parte contacts are prohibited in Commission proceedings, such as this one, which involve channel allotments. See 47 CFR 1.1204(b) for rules governing permissible ex parte contact. For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under Texas, is amended by removing Channel 299A and adding Channel 278A at Buffalo and adding Channel 267A at Centerville.

Federal Communications Commission.
John A. Karousos,
Assistant Chief, Audio Division, Media Bureau.

[FR Doc. E9-26602 Filed 11-4-09; 8:45 am]

BILLING CODE 6712-01-S